DEPARTMENT OF ENERGY

Federal Energy Regulatory Commission

[Docket No. RP00-220-000]

Town of Neligh, Nebraska, v. K N Interstate Gas Transmission Company and KN Energy, a Division of Kinder-Morgan, Inc.; Notice of Complaint

March 24, 2000.

Take notice that on March 23, 2000, the Town of Neligh, Nebraska (Neligh) filed pursuant to 18 CFR 385.206 a Complaint under Section 5 of the Natural Gas Act (“NGA”), 15 U.S.C. 717d, against KN Interstate Gas Transmission Company (KNI), a Complaint and Request for Declaratory Relief against KN Energy (KNE), a division of Kinder-Morgan, Inc., and, in the alternative, an Application under Section 7(a) of the NGA, 15 U.S.C. 717f(a), to compel KNI to provide gas service to Neligh.

According to the Complainant, Neligh will acquire the local distribution facilities of KNE as a result of condemnation proceedings and will operate those facilities to provide gas distribution service to the residents and businesses located in Neligh and the surrounding community. Neligh has requested firm and no-notice transportation service from KNI, KNE's interstate pipeline affiliate, in an amount proportionate to that used historically by KNE to serve Neligh. KNI has rejected Neligh's request on the basis that KNI is fully subscribed.

Complainant seeks, on an expedited basis, the following alternative forms of relief:

(1) A Declaratory Order from the Commission declaring that the capacity in question was assigned to KNE by reason of its status as the incumbent provider of local distribution service to customers in Neligh, Nebraska during the restructuring of KNI, and ordering an assignment to Neligh of a proportionate amount of the FTS and NNS capacity on KNI, allocated to KNE in restructuring, adequate to serve Neligh.

(2) In the alternative, an order from the Commission pursuant to Sections 5, 7, and 16 of the NGA finding that KNI's refusal to provide service is unjust, unreasonable, unduly discriminatory, and preferential, and requiring KNI to provide gas transportation service to Neligh.

(3) In the alternative, a grant of Neligh's Application under Section 7(a) of the NGA to require KNI to extend and improve its transportation facilities to provide the transportation service sought by Neligh or provide such other relief as is authorized under the NGA to accommodate Neligh's need for interstate gas transportation service to serve the Neligh community.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 3, 2000. Protests will be considered by the Commission in determining the appropriate action to be taken, but will not serve to make protestants parties to the proceeding. Any person wishing to become a party must file a motion to intervene. Copes of this filing are on file with the Commission and are available for public inspection in the Public Reference Room. This filing may also be viewed on the Internet at http://www.ferc.fed.us/online/rims.htm (call 202-208-2222) for assistance. Answers to the complaint shall also be due on or before April 3, 2000.

Linwood A. Watson, Jr.,
Acting Secretary.

[FR Doc. 00-7794 Filed 3-29-00; 8:45 am]

BILLING CODE 6717-01-M